INTERNATIONAL TRADE COMMISSION

[Investigation No. 337-TA-1395]

Certain Aerosol Fire Extinguishing Technology, Components Thereof, and Products Containing Same; Notice of a Commission Determination Not To Review an Initial Determination Granting a Motion To Terminate the Investigation Based on Withdrawal of the Complaint; Termination of the Investigation

AGENCY: U.S. International Trade Commission.

ACTION: Notice.

SUMMARY: Notice is hereby given that the U.S. International Trade Commission has determined not to review the presiding administrative law judge's (“ALJ”) initial determination (“ID”) (Order No. 18) granting an unopposed motion to terminate the investigation based on withdrawal of the complaint. The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 1, 2024, based on a complaint filed on behalf of Nano Fire LLC and Defender Safety, LLC, both of Plainview, New York (collectively, “Complainants”). 89 FR 22454 (Apr. 1, 2024). The complaint, as supplemented, alleged violations of section 337 of the Tariff Act of 1930, as amended, 19 U.S.C. 1337, in the importation into the United States, the sale for importation, or the sale within the United States after importation of certain aerosol fire extinguishing technology, components thereof, and products containing same by reason of the infringement of certain claims of U.S. Patent Nos. 8,865,014 and 9,199,108. Id. The complaint further alleged that an industry in the United States exists as required by the applicable Federal Statute. Id. The Commission's notice of investigation named as respondents Halma Plc of the United Kingdom; Halma Holdings LLC of Summit, New Jersey; and FirePro Systems, Ltd. of Cyprus (collectively, “FirePro”); and Hochicki America Corporation of Buena Park, California. Id. at 22455. The Office of Unfair Import Investigations was also named a party in this investigation but later withdrew its participation. See id.; Commission Investigative Staff's Notice of Non-Participation (May 17, 2024).

On July 15, 2024, Complainants filed a motion to terminate the investigation based on withdrawal of the complaint. No party opposed the motion although FirePro filed a response asserting that Complainants wasted administrative resources by not conducting an adequate pre-filing investigation. See ID at 1-2.

On August 7, 2024, the ALJ issued the subject ID (Order No. 18) granting Complainants' motion to terminate. The ID found that the motion complied with Commission Rule 210.21(a)(1), 19 CFR 210.21(a)(1), and Ground Rule 2. ID at 2. The ID also found “no evidence of extraordinary circumstances that would weigh against granting the Motion.” Id. No petitions for review were filed.

The Commission has determined not to review the subject ID. The investigation is terminated in its entirety.

The Commission vote for this determination took place on September 5, 2024.

The authority for the Commission's determination is contained in section 337 of the Tariff Act of 1930, as amended, 19 U.S.C. 1337, and in part 210 of the Commission's Rules of Practice and Procedure, 19 CFR part 210.

By order of the Commission.

Issued: September 5, 2024.
Sharon Bellamy,
Supervisory Hearings and Information Officer.

[FR Doc. 2024-20415 Filed 9-9-24; 8:45 am]

BILLING CODE 7020-02-P